DEPARTMENT OF HOMELAND SECURITY

Coast Guard

33 CFR Part 100

[Docket Number USCG-2020-0078]

RIN 1625-AA08

Special Local Regulation; Sail Grand Prix 2020 Race Event; San Francisco, CA

AGENCY: Coast Guard, DHS.

ACTION: Notice of proposed rulemaking.

SUMMARY: The Coast Guard is proposing to establish a temporary special local regulation in the navigable waters of San Francisco Bay in San Francisco, CA in support of the San Francisco Sail Grand Prix 2020 official practice and race periods between April 30, 2020 and May 3, 2020. This special local regulation is necessary to ensure the safety of mariners transiting the area from the dangers of high-speed sailing activities associated with the Sail Grand Prix 2020 race event. This proposed temporary special local regulation will temporarily restrict vessel traffic adjacent to the city of San Francisco waterfront in the vicinity of the Golden Gate Bridge and Alcatraz Island and prohibit vessels and persons not participating in the race event from entering the dedicated race and practice areas. We invite your comments on this proposed rulemaking.

DATES: Comments and related material must be received by the Coast Guard on or before March 30, 2020.

ADDRESSES: You may submit comments identified by docket number USCG-2020-0078 using the Federal eRulemaking Portal at https://www.regulations.gov. See the “Public Participation and Request for Comments” portion of the SUPPLEMENTARY INFORMATION section for further instructions on submitting comments.

FOR FURTHER INFORMATION CONTACT: If you have questions about this proposed rulemaking, call or email Lieutenant Jennae Cotton, Waterways Management, U.S. Coast Guard; telephone 415-399-3585, email SFWaterways@uscg.mil.

SUPPLEMENTARY INFORMATION:

I. Table of Abbreviations

COTP Captain of the Port San Francisco

CFR Code of Federal Regulations

DHS Department of Homeland Security

FR Federal Register

NPRM Notice of proposed rulemaking

PATCOM Patrol Commander

§ Section

U.S.C. United States Code

II. Background, Purpose, and Legal Basis

On June 3, 2019, F50 League, LLC notified the Coast Guard of an intention to conduct the “Sail Grand Prix 2020” event in the San Francisco Bay. F50 League, LLC is a sailing league featuring world-class sailors racing 50-foot foiling catamarans. The season starts in February 2020. The event will be held in six iconic cities throughout the world, traveling to the San Francisco Bay in May 2020. In San Francisco, they propose to take advantage of the natural amphitheater that the central bay and city waterfront provide.

F50 League, LLC has applied for a Marine Event Permit to hold the Sail Grand Prix 2020 race event on the waters of the San Francisco Bay in San Francisco, California. The Coast Guard has not approved the Marine Event Permit and is still evaluating the application. If the permit is approved, however, we anticipate that a special local regulation may be necessary to ensure public safety during the practice and race periods. To provide adequate time for public input, we are proposing this special local regulation prior to a decision on the Marine Event Permit.

Prior to drafting this notice of proposed rulemaking, the Coast Guard solicited input from maritime stakeholders to better understand the nature of commercial and recreational activities on the Bay and how the proposed Sail Grand Prix 2020 race event could impact such activities. The Coast Guard participated in both a navigation work group and monthly public meeting of the local Harbor Safety Committee (HSC) to meet with stakeholders to obtain information and gather feedback on notional approaches to enacting regulation in connection with the Sail Grand Prix 2020 race event. Additionally, the Coast Guard has taken feedback from the Sail Grand Prix 2019 race event into consideration for the plans associated with the Sail Grand Prix 2020 race event.

These regulations are needed to keep persons and vessels away from the sailing race vessels, which exhibit unpredictable maneuverability and have a demonstrated likelihood during the simulation of racing scenarios for capsizing. The special local regulation will help prevent injuries and property damage that may be caused upon impact by these fast-moving vessels. The provisions of this temporary special local regulation will not exempt racing vessels from any federal, state, or local laws or regulations, including Nautical Rules of the Road. The Coast Guard proposes this rulemaking under authority in 46 U.S.C. 70034 (previously 33 U.S.C. 1231).

Under 33 CFR 100.35, the Coast Guard District Commander has authority to promulgate certain special local regulations deemed necessary to ensure the safety of life on the navigable waters immediately before, during, and immediately after an approved regatta. Pursuant to 33 CFR 1.05-1(i), the Commander of Coast Guard District 11 has delegated to the COTP the responsibility of issuing such regulations.

III. Discussion of Proposed Rule

The COTP proposes to establish a special local regulation associated with the Sail Grand Prix 2020 race event from 11:30 a.m. to 5:30 p.m. on each of April 30, 2020, May 1, 2020, May 2, 2020, and May 3, 2020. The areas regulated by this special local regulation will be east of the Golden Gate Bridge, south of Alcatraz Island, west of Treasure Island, and in the vicinity of the city of San Francisco waterfront. The Coast Guard proposes to establish an official practice race area, an official race area, a spectator area, and a no-loitering area. Images of the four zones and enforcement dates and times of these proposed regulated areas may be found in the docket.

The proposed special local regulation would encompass all navigable waters of the San Francisco Bay, from surface to bottom, within the area formed by connecting the following latitude and longitude points in the following order: 37°48′18″ N, 122°27′44″ W; thence to 37°48′30″ N, 122°27′56″ W; thence to 37°49′18″ N, 122°27′59″ W; thence to 37°49′34″ N, 122°25′36″ W; thence to 37°49′10″ N, 122°25′10″ W; thence to 37°48′45″ N, 122°25′10″ W; thence to 37°48′42″ N, 122°25′13″ W and thence along the shore to the point of beginning. Located within this footprint, there would be four separate regulated areas: Zone “A”, the Official Practice Box Area; Zone “B”, the Official Race Box Area; Zone “C”, the Spectator Area; and Zone “D”, the No Spectating or Loitering Area.

Zone “A”, the Official Practice Box Area, would encompass all navigable waters of the San Francisco Bay, from surface to bottom, within the area formed by connecting the following latitude and longitude points in the following order: 37°49′19″ N, 122°27′19″ W; thence to 37°49′28″ N, 122°25′52″ W; thence to 37°48′49″ N, 122°25′45″ W; thence to 37°48′42″ N, 122°27′00″ W; thence to 37°48′51″ N, 122°27′14″ W and thence to the point of beginning. Only designated Sail Grand Prix 2020 race and support vessels would be permitted to enter Zone “A”. Zone “A” would be used by the race and support vessels during the official practice period on April 30th, 2020 and May 1st, 2020. Zone “A”, the Official Practice Box Area, will be enforced during the official practices from 11:30 a.m. to 5:30 p.m. on April 30, 2020 and May 1, 2020. Excluding the public from entering Zone “A” is necessary to provide protection from the operation of the high-speed sailing vessels within this area.

Zone “B”, the Official Race Box Area, would be marked by 12 or more colored visual markers. The position of these markers would be confirmed via Broadcast Notice to Mariners at least three days prior to the event. Only designated Sail Grand Prix 2020 race, support, and VIP vessels would be permitted to enter Zone “B”. Because of the hazards posed by the sailing competition, excluding non-race vessel traffic from Zone “B” is necessary to provide protection from the operation of the high-speed sailing vessels within this area.

Zone “C”, the Spectator Area, will include specified parts of the waters immediately adjacent to racing Zone “B” and will be defined by latitude and longitude points as per Broadcast Notice to Mariners. Zone “C” will be further divided into three additional sub-areas: Zone “C1 East”, Zone “C1 West”, and Zone “C2”. Zone “C1 East” and Zone “C1 West” would be the general spectator zones that are open to all vessel spectators. Zone “C2” will be a separate designated spectator area or areas marked by approximately four or more colored visual markers that will be managed by marine event sponsor officials. The designation of Zone “C”, to include Zone “C1 East”, Zone “C1 West”, and Zone “C2”, will allow spectators to observe the Sail Grand Prix 2020 race event in a regulated area at a safe distance from the sailing regatta occurring in Zone “B”.

Zone “D” will be the No Spectating or Loitering Area. This zone will allow vessels to transit in and out of marinas, piers, and vessel launching locations along the San Francisco waterfront throughout the duration of the Sail Grand Prix event. Additionally, this zone keeps vessel traffic moving along the northern boundary of the regulated area, reducing any impact of recreational vessels on commercial shipping traffic. All vessels shall maintain headway and shall not loiter or anchor within the confines of Zone “D”. Mariners can transit Zone “D” during the Sail Grand Prix, decreasing the impact to the San Francisco waterfront and vessel traffic lanes. All mariners must obey the direction of the COTP or the COTP's designated representative while transiting Zone “D”.

Zones “B”, “C”, and “D” will be enforced at all times during the races, from 11:30 a.m. to 5:30 p.m. on May 2, 2020 and May 3, 2020.

The duration of the establishment of the proposed special local regulation is intended to ensure the safety of vessels in these navigable waters before, during, and after the scheduled practice and race periods. This proposed temporary special local regulation will temporarily restrict vessel traffic adjacent to the city of San Francisco waterfront in the vicinity of the Golden Gate Bridge and Alcatraz Island and prohibit vessels and persons not participating in the race event from entering the established race area. The regulatory text we are proposing appears at the end of this document.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action” under Executive Order 12866. Accordingly, the NPRM has not been reviewed by the Office of Management and Budget (OMB), and pursuant to OMB guidance it is exempt from the requirements of Executive Order 13771.

This regulatory action determination is based on the size, location, and duration of the special local regulation. With this special local regulation, the Coast Guard intends to maintain commercial access to the ports through an alternate vessel traffic management scheme. The special local regulation is limited in duration, and is limited to a narrowly tailored geographic area with designated and adequate space for transiting vessels to pass when permitted by the COTP or a designated representative. In addition, although this rule restricts access to the waters encompassed by the special local regulation, the effect of this rule will not be significant because the local waterway users will be notified in advance via public Notice to Mariners to ensure the special local regulation will result in minimum impact. Therefore mariners will be able to plan ahead and transit outside of the periods of enforcement of the special local regulation, and if they choose not to do so, they will be able to transit around the northern side of the special local regulation. The entities most likely to be affected are commercial vessels and pleasure craft engaged in recreational activities.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This rule may affect owners and operators of commercial vessels and pleasure craft engaged in recreational activities and sightseeing. This special location regulation will not have a significant economic impact on a substantial number of small entities for the reasons stated in section IV.A. above. This special local regulation will be subject to enforcement for a limited duration. When the special local regulation is in effect, vessel traffic can pass safely around the regulated area. The maritime public will be advised in advance of this special local regulation via Notice to Mariners.

If you think that your business, organization, or governmental jurisdiction qualifies as a small entity and that this rule will have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule will affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule will not call for a new collection of information under the Paperwork Reduction Act of 1995 (44 U.S.C. 3501-3520).

D. Federalism and Indian Tribal Governments

A rule has implications for federalism under Executive Order 13132 (Federalism), if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it will not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a special local regulation that will create a regulated area, divided into four zones, of limited size and duration that includes areas for vessel traffic to pass. Normally such actions are categorically excluded from further review under paragraph L61 of Appendix A, Table 1 of DHS Instruction Manual 023-01-001-01, Rev. 01. A preliminary Record of Environmental Consideration supporting this determination is available in the docket. For instructions on locating this docket, see the ADDRESSES section of this preamble. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, call or email the person in the FOR FURTHER INFORMATION CONTACT section of this document for alternate instructions.

We accept anonymous comments. All comments received will be posted without change to https://www.regulations.gov and will include any personal information you have provided. For more about privacy and the docket, visit https://www.regulations.gov/privacyNotice.

Documents mentioned in this NPRM as being available in the docket, and all public comments, will be in our online docket at https://www.regulations.gov and can be viewed by following that website's instructions. Additionally, if you go to the online docket and sign up for email alerts, you will be notified when comments are posted or a final rule is published.

List of Subjects in 33 CFR Part 100

Marine safety, Navigation (water), Reporting and recordkeeping requirements, Waterways.

For the reasons discussed in the preamble, the Coast Guard proposes to amend 33 CFR part 100 as follows:

PART 100—SAFETY OF LIFE ON NAVIGABLE WATERS

1. The authority citation for Part 100 continues to read as follows:

Authority: 46 U.S.C. 70041; 33 CFR 1.05-1.

2. Add § 100.35.T11-018 to read as follows:

§ 100.35T11-018 Special Local Regulation; Sail Grand Prix 2020 Race Event, San Francisco, CA

(a) Location. The following area is subject to a temporary special local regulation: all navigable waters of the San Francisco Bay, from surface to bottom, encompassed by a line connecting the following latitude and longitude points in the following order: 37°48′18″ N, 122°27′44″ W; thence to 37°48′30″ N, 122°27′56″ W; thence to 37°49′18″ N, 122°27′59″ W; thence to 37°49′34″ N, 122°25′36″ W; thence to 37°49′10″ N, 122°25′10″ W; thence to 37°48′45″ N, 122°25′10″ W; thence to 37°48′42″ N, 122°25′13″ W and thence along the shore to the point of beginning.

(b) Definitions. As used in this section,

(i) “Designated representative” means a Coast Guard Patrol Commander or “PATCOM”, including a Coast Guard coxswain, petty officer, or other officer on a Coast Guard vessel or a Federal, State, or local officer designated by or assisting the Captain of the Port San Francisco (COTP) in the enforcement of the special local regulation.

(ii) Zone “A” means the Official Practice Box Area. This zone will encompass all navigable waters of the San Francisco Bay, from surface to bottom, within the area formed by connecting the following latitude and longitude points in the following order: 37°49′19″ N, 122°27′19″ W; thence to 37°49′28″ N, 122°25′52″ W; thence to 37°48′49″ N, 122°25′45″ W; thence to 37°48′42″ N, 122°27′00″ W; thence to 37°48′51″ N, 122°27′14″ W and thence to the point of beginning.

(iii) Zone “B” means the Official Race Box Area, which will be marked by 12 or more colored visual markers within the special regulation area designated in paragraph (a). The position of these markers will be specified via Broadcast Notice to Mariners at least three days prior to the event.

(iv) Zone “C” means the Spectator Area, which is within the special local regulation area designated in paragraph (a) and outside of Zone “B”, the Official Race Box Area. Zone “C” will be defined by latitude and longitude points per Broadcast Notice to Mariners. Zone “C” will be further divided into three additional sub-areas: Zone “C1 East”, Zone “C1 West”, and Zone “C2”. Zone “C1 East” and Zone “C1 West” will be the general spectator areas that are open to all vessel spectators. Zone “C2” means the separately designated spectator area or areas marked by approximately four or more colored buoys that will be managed by marine event sponsor officials. Vessels shall not anchor within the confines of Zone “C”.

(v) Zone “D” means the No Spectating or Loitering Area. This zone will allow vessels to transit in and out of marinas, piers, and vessel launch areas throughout the duration of the Sail Grand Prix. All vessels shall maintain headway and shall not loiter or anchor within the confines of Zone “D”. Mariners can transit Zone “D” during the Sail Grand Prix 2020 event, decreasing the impact of the special local regulation to the San Francisco waterfront.

(c) Special Local Regulation. The following regulations apply between 11:30 a.m. and 5:30 p.m. on the Sail Grand Prix 2020 official practice and race days.

(i) Only support and race vessels will be authorized by the COTP or designated representative to enter Zone “A” during the official practice days. Only support and race vessels will be authorized by the COTP or designated representative to enter Zone “B” during the race event. Vessel operators desiring to enter or operate within Zone “B” must contact the COTP or a designated representative to obtain permission to do so. Persons and vessels may request permission to transit Zone “B” on VHF-23A.

(ii) Spectator vessels in Zone “C” must maneuver as directed by the COTP or designated representative. When hailed or signaled by the COTP or designated representative by a succession of sharp, short signals by whistle or horn, the hailed vessel must come to an immediate stop and comply with the lawful directions issued. Failure to comply with a lawful direction may result in additional operating restrictions, citation for failure to comply, or both.

(iii) Spectator vessels in Zone “C” must operate at safe speeds which will create minimal wake.

(iv) Vessels in Zone “D” shall maintain headway and shall not loiter or anchor within the confines of Zone “D”. Vessels in Zone “D” must maneuver as directed by the COTP or designated representative.

(v) Rafting and anchoring of vessels are prohibited within Zones “A”, “B”, “C”, and “D”.

(d) Enforcement periods. This special local regulation will be enforced for the official practices and race events from April 30, 2020 through May 3, 2020 from 11:30 a.m. until 5:30 p.m. each day. At least 24 hours in advance of the first race event, the COTP will notify the maritime community of periods during which these zones will be enforced via Notice to Mariners and via the Coast Guard Boating Public Safety Notice.

Dated: February 19, 2020.
Howard H. Wright,
Captain, U.S. Coast Guard, Alternate Captain of the Port, San Francisco.

[FR Doc. 2020-03993 Filed 2-27-20; 8:45 am]

BILLING CODE 9110-04-P